DEPARTMENT OF TRANSPORTATION

Federal Aviation Administration

Eighteenth Meeting: RTCA NextGen Advisory Committee (NAC)

AGENCY: Federal Aviation Administration (FAA), U.S. Department of Transportation (DOT).

ACTION: Notice of Eighteenth RTCA NextGen Advisory Committee Meeting.

SUMMARY: The FAA is issuing this notice to advise the public of the Eighteenth RTCA NextGen Advisory Committee meeting.

DATES: The meeting will be held June 17, 2016 from 9:00 a.m.-3:00 p.m.

ADDRESSES: The meeting will be held at The Boeing Company, 929 Long Bridge Drive, Arlington, VA 22202.

FOR FURTHER INFORMATION CONTACT: The RTCA Secretariat, 1150 18th Street NW., Suite 910, Washington, DC, 20036, or by telephone at (202) 833-9339, fax at (202) 833-9434, or Web site at http://www.rtca.org or Andy Cebula, NAC Secretary, RTCA, Inc., acebula@rtca.org, (202) 330-0652.

SUPPLEMENTARY INFORMATION: Pursuant to section 10(a) (2) of the Federal Advisory Committee Act (Pub. L. 92-463, 5 U.S.C., App.), notice is hereby given for a meeting of RTCA NextGen Advisory Committee. The agenda will include the following:

Friday, June 17, 2016 (9:00 a.m. and 3:00 p.m. EDT)

1. Opening of Meeting/Introduction of NAC Members—Chairman Richard Anderson

2. Official Statement of Designated Federal Official—The Honorable Mike Whitaker, FAA Deputy Administrator & Chief NextGen Officer

3. Review and Approval of February 25, 2016 Meeting Summary

4. Chairman's Report—Chairman Anderson

5. FAA Report—Mr. Whitaker

6. Airline C/N/S Fleet Plans—JetBlue Equipage

7. ADS-B Update

8. NextGen Integration Working Group (NIWG): Exec Team Update and NIWG Reports & Plans: DataComm, Multiple Runway Operations, Surface & Data Sharing, Performance Based Navigation (PBN)

9. PBN Implementation

10. Joint Analysis Team—Wake ReCat Assessment Recommendation

11. PBN Blueprint Community Outreach Task Group—Recommendation

12. PBN Time, Speed, Spacing Task Group—Interim Report

13. Summary of meeting and next steps

14. Closing Comments—DFO and NAC Chairman

15. Other business

16. Adjourn

Although the NAC meeting is open to the public, the meeting location has security protocols that require advanced registration. Please email bteel@rtca.org with name, company and country of citizenship to pre-register. Attendance is limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on May 13, 2016.
Latasha Robinson,
Management & Program Analyst, NextGen, Enterprise Support Services Division, Federal Aviation Administration.

[FR Doc. 2016-11715 Filed 5-17-16; 8:45 am]

BILLING CODE 4910-13-P